DEPARTMENT OF COMMERCE

International Trade Administration

[A-549-813]

Canned Pineapple Fruit from Thailand: Extension of Time Limit for Final Results of Antidumping Duty Administrative Review

AGENCY: Import Administration, International Trade Administration, Department of Commerce.

EFFECTIVE DATE: November 16, 2007.

FOR FURTHER INFORMATION CONTACT: Myrna Lobo or Douglas Kirby, AD/CVD Operations, Office 6, Import Administration, International Trade Administration, Department of Commerce, Room 7866, 14th Street and Constitution Avenue, NW, Washington DC 20230; telephone: (202) 482-2371 or (202) 482-3782, respectively.

Background

On August 8, 2007, the Department published the preliminary results of the administrative review of the antidumping duty order on canned pineapple fruit (CPF) from Thailand for the period July 1, 2005 through June 30, 2006. See Canned Pineapple Fruit from Thailand: Preliminary Results of Antidumping Duty Administrative Review, 72 FR 44490 (August 8, 2007). This review covers two producers/exporters of the subject merchandise to the United States, Vita Food Factory (1989) Ltd. (Vita) and Tropical Food Industries Co. Ltd. (Trofco).

Extension of Time Limit for Final Results

Section 751(a)(3)(A) of the Tariff Act of 1930, as amended (the Act) requires the Department to issue the final results in an administrative review within 120 days of the publication date of the preliminary results. However, if it is not practicable to complete the review within this time period, section 751(a)(3)(A) of the Act allows the Department to extend the time limit for the final results to a maximum of 180 days. The Department has determined that completion of the final results of this review within the original time period is not practicable due to the additional analysis that must be performed on the information collected at verification conducted since the issuance of the preliminary results. Specifically, the Department requires additional time to analyze selling agent relationships pertaining to respondent. Thus, in accordance with section 751(a)(3)(A) of the Act, the Department is extending the time period for issuing the final results of review by an additional 60 days, until February 4, 2008.

This notice is published pursuant to sections 751(a)(3)(A) and 777(i)(1) of the Act.

Dated: November 7, 2007.
Stephen J. Claeys,
Deputy Assistant Secretary for Import Administration.

[FR Doc. E7-22462 Filed 11-15-07; 8:45 am]

BILLING CODE 3510-DS-S